DEPARTMENT OF DEFENSE

Office of the Secretary

[Docket ID: DoD-2022-OS-0103]

Proposed Collection; Comment Request

AGENCY: Office of the Under Secretary of Defense for Personnel and Readiness (OUSD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 21, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION:

Title; Associated Form; and OMB Number: Community Capacity Inventory; OMB Control Number 0704-CCIS.

Needs and Uses: The purpose of the Community Capacity Inventory (CCI) is to provide a tool to help military leadership and family service providers at the Service and Program level make informed decisions about resource allocation and service delivery. The evidence-informed online tool is designed to assist commanders in periodically assessing the programs within the Military Family Readiness System. Ultimately the CCI assist commanders in assessing whether the current resources available to unit-level personnel are accessible and sufficient, or if outreach, counseling, coaching, education, skill building and informal networks need to be augmented or re-allocated to improve the quality and/or accessibility of support.

Affected Public: Individuals or households.

Annual Burden Hours: 5,250 hours.

Number of Respondents: 10,500.

Responses per Respondent: 1.

Annual Responses: 10,500.

Average Burden per Response: 30 minutes.

Frequency: On occasion.

Dated: August 16, 2022.
Kayyonne T. Marston,
Alternate OSD Federal Register Liaison Officer, Department of Defense.

[FR Doc. 2022-17970 Filed 8-19-22; 8:45 am]

BILLING CODE 5001-06-P